DEPARTMENT OF HOUSING AND URBAN DEVELOPMENT

[Docket No. FR-4655-N-18]

Notice of Proposed Information Collection: Comment Request; Technical Suitability of Products Program Section 521 of the National Housing Act

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: October 9, 2001.

ADDRESSES: Interested persons are invited to submit comments regarding this proposal. Comments should refer to the proposal by name and/or OMB Control Number and should be sent to: Wayne Eddins, Reports Management Officer, Department of Housing and Urban Development 451 7th Street, SW., L'Enfant Plaza Building, Room 8001, Washington, DC 20410.

FOR FURTHER INFORMATION CONTACT: Elizabeth A. Cocke, Director, Manufactured Housing and Standards Division, Department of Housing and Urban Development, 451 7th Street SW., Washington, DC 20410, telephone (202) 708-6423 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Technical suitability of Products Program, Section 521 of the National Housing Act.

OMB Control Number, if applicable: 2502-0313.

Description of the need for the information and proposed use: Section 521 of the National Housing Act (12 U.S.C. 1735e) which was added by Section 216 of the Housing and Urban Development Act of 1965 (Pub. L. 89-117) requires the Department to adopt a uniform procedure for the acceptance of materials and products to be used in structures approved for mortgages or loans insured under the National Housing Act.

Under this program, manufacturers of nonstandard housing-related materials, products or structural housing systems must apply to HUD for a determination of technical acceptance. The two major categories of acceptance are structural building systems, subsystems, and components, and structural and nonstructural materials and products. Currently, the Department for this program requests the information when new applicants desire review and recognition. Without the information, the technical suitability of the products and materials for home construction cannot be determined. This program also helps to promote the use of innovative and new materials/products in homes with mortgages insured under the National Housing Act.

Agency form numbers, if applicable: HUD-92005.

Estimation of the total numbers of hours needed to prepare the information collection including number of respondents, frequency of response, and hours of response: There are 2,050 total annual hours estimated for a total of 50 respondents. The frequency of collection is once per application, and each application is estimated to average approximately 41 hours.

Status of the proposed information collection: Extension of a currently approved collection.

Authority: The Paperwork Reduction Act of 1995, 44 U.S.C., Chapter 35, as amended.

Dated: July 30, 2001.
Sean G. Cassidy,
General deputy Assistant Secretary for Housing—Deputy Federal Housing Commissioner.

[FR Doc. 01-19921 Filed 8-8-01; 8:45 am]

BILLING CODE 4210-27-P